NUCLEAR REGULATORY COMMISSION

[Dockets No. 72-02, 72-16]

Virginia Electric and Power Company; Issuance of Environmental Assessment and Finding of No Significant Impact

The U.S. Nuclear Regulatory Commission (NRC or the Commission) is considering issuance of an exemption, pursuant to 10 CFR 72.7, from the provisions of 10 CFR 72.48 to Virginia Electric and Power Company (Dominion). The requested exemption would allow Dominion to implement the amended 10 CFR 72.48 requirements on June 25, 2001, for the Independent Spent Fuel Storage Installations (ISFSI) at the Surry Power Station in Surry County, Virginia and at the North Anna Power Station in Louisa County, Virginia.

Environmental Assessment (EA)

Identification of Proposed Action: By letter dated March 2, 2001, Dominion requested a scheduler exemption from the implementation date of April 5, 2001, for the revised 10 CFR 72.48. Dominion plans to implement its revised 10 CFR 50.59 and 10 CFR 72.48 programs simultaneously. The planned date for implementing the revised 10 CFR 50.59 requirements is June 25, 2001.

Need for Proposed Action: The applicant wants the implementation date of 10 CFR 50.59 and 10 CFR 72.48 to coincide. The applicant stated in the March 2, 2001, submittal that one common process is utilized to administer and control changes under both the 10 CFR 50.59 and 10 CFR 72.48 at both facilities. In addition, the same individuals, whom are qualified on both rules, perform the required evaluations for both change processes, and thus a single point in time provides for a more orderly transition to the amended rules.

Environmental Impacts of the Proposed Action: There are no significant environmental impacts associated with the proposed action. The new revision of 10 CFR 72.48 is considered less restrictive than the current requirements, with the exception of the additional reporting requirements. Continued implementation of the existing 10 CFR 72.48 until June 25, 2001, is acceptable to the NRC as stated in Regulatory Issues Summary 2001-03 which states that it is the NRC's view that both the old rule and the new rule provide an acceptable level of safety. Extending the current requirements until June 25, 2001, has no significant impact on the environment.

Alternative to the Proposed Action: Since there are no environmental impacts associated with the proposed action, alternatives are not evaluated other than the no action alternative. The alternative to the proposed action would be to deny approval of the scheduler exemption and, therefore, not allow Dominion to implement the revised 10 CFR 72.48 requirements on the desired date, June 25, 2001. However, the environmental impacts of the proposed action and the alternative would be the same.

Agencies and Persons Consulted: On March 22, 2001, Mr. Les Foldese of the Virginia Department of Health, Radiological Health Programs was contacted regarding the environmental assessment for the proposed action and had no comment.

Finding of No Significant Impact

The environmental impacts of the proposed action have been reviewed in accordance with the requirements set forth in 10 CFR part 51. Based on the foregoing EA, the Commission finds that the proposed action of granting an exemption from 10 CFR 72.48, so that Dominion may implement the amended requirements on June 25, 2001, will not significantly impact the quality of human environment. Accordingly, the Commission has determined that an environmental impact statement for the proposed action is not necessary.

The request for exemption was docketed under 10 CFR part 72, Dockets 72-02 and 72-16. For further details with respect to this action, see the exemption request dated March 2, 2001, which is available for public inspection at the Commission's Public Document Room, One White Flint North Building, 11555 Rockville Pike, Rockville, Maryland 20852, or from the publicly available records component of NRC's agencywide documents access and management system (ADAMS). ADAMS is accessible from the NRC web site at http://www.nrc.gov/NRC/ADAMS/index.html (the Public Electronic Reading Room).

Dated at Rockville, Maryland, this 29th day of March 2001.
For the Nuclear Regulatory Commission.
E. William Brach,
Director, Spent Fuel Project Office, Office of Nuclear Material Safety and Safeguards.

[FR Doc. 01-8399 Filed 4-4-01; 8:45 am]

BILLING CODE 7590-01-P